DEPARTMENT OF VETERANS AFFAIRS

[OMB Control No. 2900-NEW (VA Home Loan Guaranty Program Evaluation)]

Proposed Information Collection Activity: Proposed Collection; Comment Request

AGENCY: Office of Planning and Analysis, Department of Veterans Affairs.

ACTION: Notice.

SUMMARY: The Office of Planning and Analysis, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to evaluate home loan guaranty and specially adapted housing grant programs.

DATES: Written comments and recommendations on the proposed collection of information should be received on or before June 2, 2003.

ADDRESSES: Submit written comments on the collection of information to Christopher LaLonde, Office of Assistant Secretary for Planning and Analysis (008B), Department of Veterans Affairs, 810 Vermont Ave., NW., Washington, DC 20420 or mailto:christopher.lalonde@mail.va.gov. Please refer to “OMB Control No. 2900-NEW (VA Home Loan Guaranty Program Evaluation)” in any correspondence.

FOR FURTHER INFORMATION CONTACT: Christopher LaLonde at (202) 273-2122 or FAX (202) 273-5993.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, the Office of Planning and Analysis invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: VA Home Loan Guaranty Program Evaluation.

OMB Control Number: None assigned.

Type of Review: New collection.

Abstract: The purpose of these surveys is to provide information for an evaluation that assesses the effectiveness and efficiency of VA Home Loan Guaranty Program for assisting eligible veterans and active duty military personnel to purchase, construct, repair, or improve a dwelling that they will own and occupy as their home; and to assess the adequacy, efficiency, and effectiveness of the Specially Adapted Housing Grant Program. These surveys will assist VA with the improvement of program operations and development of policy positions to support the needs and requirements of the veteran population.

Affected Public: Individuals or households.

Estimated Time Per Respondent and Annual Burden: 1,140 hours.

Estimated Average Burden Per Respondent: 30 minutes.

Frequency of Response: On occasion.

Estimated Number of Respondents: 2,281.

Dated: March 20, 2003.
By direction of the Secretary.
Martin L. Hill,
Acting Director, Records Management Service.

[FR Doc. 03-7698 Filed 3-31-03; 8:45 am]

BILLING CODE 8320-01-P